DEPARTMENT OF ENERGY

Federal Energy Regulatory Commission

Combined Notice of Filings #1 Take notice that the Commission received the following exempt wholesale generator filings:

Docket Numbers: EG23-32-000.

Applicants: Diversion Wind Energy Holdings LLC.

Description: Diversion Wind Energy Holdings LLC submits Notice of Self-Certification of Exempt Wholesale Generator Status.

Filed Date: 12/15/22.

Accession Number: 20221215-5134.

Comment Date: 5 p.m. ET 1/5/23.

Docket Numbers: EG23-33-000.

Applicants: Wagon Wheel Wind Project Holdings LLC.

Description: Wagon Wheel Wind Project Holdings LLC submits Notice of Self-Certification of Exempt Wholesale Generator Status.

Filed Date: 12/15/22.

Accession Number: 20221215-5144.

Comment Date: 5 p.m. ET 1/5/23.

Docket Numbers: EG23-34-000.

Applicants: Wagon Wheel Wind Project, LLC.

Description: Wagon Wheel Wind Project, LLC submits Notice of Self-Certification of Exempt Wholesale Generator Status.

Filed Date: 12/15/22.

Accession Number: 20221215-5158.

Comment Date: 5 p.m. ET 1/5/23.

Docket Numbers: EG23-35-000.

Applicants: Diversion Wind Energy LLC.

Description: Diversion Wind Energy LLC submits Notice of Self-Certification of Exempt Wholesale Generator Status.

Filed Date: 12/15/22.

Accession Number: 20221215-5161.

Comment Date: 5 p.m. ET 1/5/23.

Docket Numbers: EG23-36-000.

Applicants: Paris Farm Solar, LLC.

Description: Paris Farm Solar, LLC submits Notice of Self-Certification of Exempt Wholesale Generator Status.

Filed Date: 12/16/22.

Accession Number: 20221216-5095.

Comment Date: 5 p.m. ET 1/6/23.

Take notice that the Commission received the following electric rate filings:

Docket Numbers: ER20-1085-003.

Applicants: Virginia Electric and Power Company, PJM Interconnection, L.L.C.

Description: Compliance filing: Virginia Electric and Power Company submits tariff filing per 35: Dominion submits Second Order No. 864 Compliance Filing to be effective 1/27/2020.

Filed Date: 12/15/22.

Accession Number: 20221215-5154.

Comment Date: 5 p.m. ET 1/5/23.

Docket Numbers: ER22-1612-001.

Applicants: Central Maine Power Company.

Description: Compliance filing: Compliance Filing-Second Amendment to Sappi North America, Inc. IA to be effective 11/17/2022.

Filed Date: 12/16/22.

Accession Number: 20221216-5157.

Comment Date: 5 p.m. ET 1/6/23.

Docket Numbers: ER22-2216-001.

Applicants: Southwest Power Pool, Inc.

Description: Compliance filing: Notice of Effective Date—Timing of the Day-Ahead Supply Adequacy Study to be effective N/A.

Filed Date: 12/16/22.

Accession Number: 20221216-5055.

Comment Date: 5 p.m. ET 1/6/23.

Docket Numbers: ER22-2726-002.

Applicants: AEP Texas Inc.

Description: Tariff Amendment: AEPTX-Electric Transmission Texas Interconnection Agreement—Amend Pending to be effective 7/29/2022.

Filed Date: 12/16/22.

Accession Number: 20221216-5111.

Comment Date: 5 p.m. ET 1/6/23.

Docket Numbers: ER22-2922-001.

Applicants: Southern California Edison Company.

Description: Tariff Amendment: Response to Deficiency Letter, TOT381-TOT405 Silver State South Solar_ER22-2290 to be effective 9/24/2022.

Filed Date: 12/16/22.

Accession Number: 20221216-5105.

Comment Date: 5 p.m. ET 1/6/23.

Docket Numbers: ER22-2984-001.

Applicants: PJM Interconnection, L.L.C.

Description: Tariff Amendment: Responses to Deficiency Letter in ER22-2984 re Quadrennial Review to be effective 12/1/2022.

Filed Date: 12/16/22.

Accession Number: 20221216-5156.

Comment Date: 5 p.m. ET 1/6/23.

Docket Numbers: ER23-208-001.

Applicants: Southwest Power Pool, Inc.

Description: Tariff Amendment: 1276R29 Evergy Metro NITSA NOA to be effective 1/1/2023.

Filed Date: 12/16/22.

Accession Number: 20221216-5072.

Comment Date: 5 p.m. ET 1/6/23.

Docket Numbers: ER23-246-001.

Applicants: Happy Jack Windpower, LLC.

Description: Tariff Amendment: Amendment Filing to be effective 12/28/2022.

Filed Date: 12/15/22.

Accession Number: 20221215-5177.

Comment Date: 5 p.m. ET 12/27/22.

Docket Numbers: ER23-256-001.

Applicants: Silver Sage Windpower, LLC.

Description: Tariff Amendment: Amendment Filing to be effective 12/28/2022.

Filed Date: 12/15/22.

Accession Number: 20221215-5162.

Comment Date: 5 p.m. ET 1/5/23.

Docket Numbers: ER23-259-001.

Applicants: Three Buttes Windpower, LLC.

Description: Tariff Amendment: Amendment Filing to be effective 12/28/2022.

Filed Date: 12/15/22.

Accession Number: 20221215-5199.

Comment Date: 5 p.m. ET 1/5/23.

Docket Numbers: ER23-262-001.

Applicants: Top of the World Wind Energy, LLC.

Description: Tariff Amendment: Amendment Filing to be effective 12/28/2022.

Filed Date: 12/15/22.

Accession Number: 20221215-5192.

Comment Date: 5 p.m. ET 1/5/23.

Docket Numbers: ER23-269-001.

Applicants: Kit Carson Windpower, LLC.

Description: Tariff Amendment: Amendment Filing to be effective 12/28/2022.

Filed Date: 12/15/22.

Accession Number: 20221215-5185.

Comment Date: 5 p.m. ET 1/5/23.

Docket Numbers: ER23-642-000.

Applicants: Chaparral Springs, LLC.

Description: § 205(d) Rate Filing: Certificates of Concurrence for Shared Facilities Common Ownership Agreements to be effective 12/16/2022.

Filed Date: 12/15/22.

Accession Number: 20221215-5136.

Comment Date: 5 p.m. ET 1/5/23.

Docket Numbers: ER23-643-000.

Applicants: PJM Interconnection, L.L.C.

Description: § 205(d) Rate Filing: Amendment to ISA, SA No. 5596; Queue No. AD1-020 (amend) to be effective 2/4/2020.

Filed Date: 12/15/22.

Accession Number: 20221215-5140.

Comment Date: 5 p.m. ET 1/5/23.

Docket Numbers: ER23-644-000.

Applicants: Diversion Wind Energy LLC.

Description: Baseline eTariff Filing: Application for Market-Based Rate Authorization to be effective 2/14/2023.

Filed Date: 12/15/22.

Accession Number: 20221215-5169.

Comment Date: 5 p.m. ET 1/5/23.

Docket Numbers: ER23-645-000.

Applicants: Wagon Wheel Wind Project, LLC.

Description: Baseline eTariff Filing: Application for Market-Based Rate Authorization to be effective 2/14/2023.

Filed Date: 12/15/22.

Accession Number: 20221215-5170.

Comment Date: 5 p.m. ET 1/5/23.

Docket Numbers: ER23-646-000.

Applicants: Wagon Wheel Wind Project Holdings LLC.

Description: Baseline eTariff Filing: Application for Market-Based Rate Authorization to be effective 2/14/2023.

Filed Date: 12/15/22.

Accession Number: 20221215-5173.

Comment Date: 5 p.m. ET 1/5/23.

Docket Numbers: ER23-647-000.

Applicants: Diversion Wind Energy Holdings LLC.

Description: Baseline eTariff Filing: Application for Market-Based Rate Authorization to be effective 2/14/2023.

Filed Date: 12/15/22.

Accession Number: 20221215-5188.

Comment Date: 5 p.m. ET 1/5/23.

Docket Numbers: ER23-648-000.

Applicants: Consolidated Power Co., LLC.

Description: Baseline eTariff Filing: Application for Market Based Rate to be effective 12/16/2022.

Filed Date: 12/15/22.

Accession Number: 20221215-5195.

Comment Date: 5 p.m. ET 1/5/23.

Docket Numbers: ER23-649-000.

Applicants: Tucson Electric Power Company.

Description: § 205(d) Rate Filing: Concurrence to PNM Rate Schedule No. 180 to be effective 10/8/2022.

Filed Date: 12/16/22.

Accession Number: 20221216-5080.

Comment Date: 5 p.m. ET 1/6/23.

Docket Numbers: ER23-650-000.

Applicants: PJM Interconnection, L.L.C.

Description: § 205(d) Rate Filing: Original NSA, Service Agreement No. 6737; Queue No. AE1-160 to be effective 11/16/2022.

Filed Date: 12/16/22.

Accession Number: 20221216-5089.

Comment Date: 5 p.m. ET 1/6/23.

Docket Numbers: ER23-651-000.

Applicants: Southwest Power Pool, Inc.

Description: § 205(d) Rate Filing: 4010 Plum Nellie & ITC Great Plains Facilities Service Agr to be effective 2/14/2023.

Filed Date: 12/16/22.

Accession Number: 20221216-5094.

Comment Date: 5 p.m. ET 1/6/23.

Docket Numbers: ER23-652-000.

Applicants: Happy Solar 1, LLC.

Description: Baseline eTariff Filing: Petition for MBR Tariff, Waivers, Blanket Authority, and Expedited Treatment to be effective 2/1/2023.

Filed Date: 12/16/22.

Accession Number: 20221216-5127.

Comment Date: 5 p.m. ET 1/6/23.

Docket Numbers: ER23-653-000.

Applicants: PJM Interconnection, L.L.C.

Description: § 205(d) Rate Filing: Original ISA No. 6728; Queue No. AE2-001 to be effective 11/16/2022.

Filed Date: 12/16/22.

Accession Number: 20221216-5128.

Comment Date: 5 p.m. ET 1/6/23.

Docket Numbers: ER23-654-000.

Applicants: AEP Ohio Transmission Company, Inc., PJM Interconnection, L.L.C.

Description:§ 205(d) Rate Filing: AEP Ohio Transmission Company, Inc. submits tariff filing per 35.13(a)(2)(iii: AEP submits OHTCo & DP&L Interconnection Agreement SA No. 6581 to be effective 12/1/2022.

Filed Date: 12/16/22.

Accession Number: 20221216-5135.

Comment Date: 5 p.m. ET 1/6/23.

Docket Numbers: ER23-655-000.

Applicants: San Diego Gas & Electric Company.

Description: § 205(d) Rate Filing: 2023 RS Filing to be effective 1/1/2023.

Filed Date: 12/16/22.

Accession Number: 20221216-5137.

Comment Date: 5 p.m. ET 1/6/23.

Docket Numbers: ER23-656-000.

Applicants: Tri-State Generation and Transmission Association, Inc.

Description: § 205(d) Rate Filing: Amendment to Rate Schedule FERC No. 67 to be effective 2/14/2023.

Filed Date: 12/16/22.

Accession Number: 20221216-5142.

Comment Date: 5 p.m. ET 1/6/23.

Docket Numbers: ER23-657-000.

Applicants: Sunwave USA Holdings, Inc.

Description: Tariff Amendment: Sunwave USA MBR Cancellation Filing to be effective 12/16/2022.

Filed Date: 12/16/22.

Accession Number: 20221216-5159.

Comment Date: 5 p.m. ET 1/6/23.

Docket Numbers: ER23-658-000.

Applicants: Sunwave Gas & Power New York, Inc.

Description: Tariff Amendment: Sunwave GP NY MBR Cancellation Filing to be effective 12/16/2022.

Filed Date: 12/16/22.

Accession Number: 20221216-5160.

Comment Date: 5 p.m. ET 1/6/23.

Docket Numbers: ER23-659-000.

Applicants: Upper Missouri G. & T. Electric Cooperative, Inc.

Description: § 205(d) Rate Filing: Revisions to FERC Electric Tariff No. 1—Formula Rate 12.16.22 to be effective 1/1/2023.

Filed Date: 12/16/22.

Accession Number: 20221216-5164.

Comment Date: 5 p.m. ET 1/6/23.

Take notice that the Commission received the following electric reliability filings

Docket Numbers: RD23-3-000.

Applicants: North American Electric Reliability Corporation.

Description: The North American Electric Reliability Corporation submits Petition for Approval of Proposed Reliability Standard CIP-003-9.

Filed Date: 12/6/22.

Accession Number: 20221206-5175.

Comment Date: 5 p.m. ET 1/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2022.
Debbie-Anne A. Reese,
Deputy Secretary.

[FR Doc. 2022-27858 Filed 12-21-22; 8:45 am]

BILLING CODE 6717-01-P